DEPARTMENT OF ENERGY

Federal Energy Regulatory Commission

Combined Notice of Filings

Take notice that the Commission has received the following Natural Gas Pipeline Rate and Refund Report filings:

Filings Instituting Proceedings

Docket Numbers: RP19-1293-000.

Applicants: Gulf South Pipeline Company, LP.

Description: § 4(d) Rate Filing: Amendment to Neg Rate Agmt (Encana 37663) to be effective 6/1/2019.

Filed Date: 6/3/19.

Accession Number: 20190603-5046.

Comments Due: 5 p.m. ET 6/17/19.

Docket Numbers: RP19-1294-000.

Applicants: Rover Pipeline LLC.

Description: § 4(d) Rate Filing: Summary of Negotiated Rate Capacity Release Agreements on 6-3-19 to be effective 6/2/2019.

Filed Date: 6/3/19.

Accession Number: 20190603-5061.

Comments Due: 5 p.m. ET 6/17/19.

Docket Numbers: RP19-1295-000.

Applicants: Rockies Express Pipeline LLC.

Description: § 4(d) Rate Filing: Neg Rate 2019-06-3 Encana, CP to be effective 6/1/2019.

Filed Date: 6/3/19.

Accession Number: 20190603-5063.

Comments Due: 5 p.m. ET 6/17/19.

Docket Numbers: RP19-1296-000.

Applicants: Natural Gas Pipeline Company of America.

Description: § 4(d) Rate Filing: Negotiated Rate Agreement—WSGP Gas Producing, LLC to be effective 6/1/2019.

Filed Date: 6/3/19.

Accession Number: 20190603-5119.

Comments Due: 5 p.m. ET 6/17/19.

Docket Numbers: RP19-1297-000.

Applicants: Rockies Express Pipeline LLC.

Description: § 4(d) Rate Filing: Neg Rate 2019-06-03 E2W (5) to be effective 6/1/2019.

Filed Date: 6/3/19.

Accession Number: 20190603-5120.

Comments Due: 5 p.m. ET 6/17/19.

Docket Numbers: RP19-1298-000.

Applicants: Equitrans, L.P.

Description: § 4(d) Rate Filing: Negotiated Capacity Release Agreements—6/1/2019 to be effective 6/1/2019.

Filed Date: 6/3/19.

Accession Number: 20190603-5140.

Comments Due: 5 p.m. ET 6/17/19.

Docket Numbers: RP19-1299-000.

Applicants: Enable Gas Transmission, LLC.

Description: § 4(d) Rate Filing: Negotiated Rate Filing—June 2019 to be effective 6/1/2019.

Filed Date: 6/3/19.

Accession Number: 20190603-5170.

Comments Due: 5 p.m. ET 6/17/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 4, 2019.
Kimberly D. Bose,
Secretary.

[FR Doc. 2019-12202 Filed 6-10-19; 8:45 am]

BILLING CODE 6717-01-P